DEPARTMENT OF COMMERCE

National Oceanic and Atmospheric Administration

[I.D. 091603G]

Endangered Species; Permit No. 1174 and Permit No. 1360

AGENCY: National Marine Fisheries Service (NMFS), National Oceanic and Atmospheric Administration (NOAA), Commerce.

ACTION: Scientific research permit modification.

SUMMARY: Notice is hereby given that requests for modifications of scientific research permits No. 1174 submitted by Harold Brundage, Environmental Research and Consulting, Inc, 112 Commons Court, Chadds Ford, Pennsylvania 19317, and No. 1360 submitted by Dr. David Secor, Chesapeake Biological Laboratory, University of Maryland Center for Environmental Science, P.O. Box 38, Solomons, Maryland 20619, have been granted.

ADDRESSES: The modifications and related documents are available for review upon written request or by appointment in the following office(s):

Permits,Conservation and Education Division, Office of Protected Resources, NMFS, 1315 East-West Highway, Room 13705, Silver Spring,MD 20910 (phone 301/713-2289, fax 310/713-0376) and

Northeast Region, NMFS, One Blackburn Drive, Gloucester, MA 01930-2298; phone (978)281-9200; fax (978)281-9371.

FOR FURTHER INFORMATION CONTACT: Jennifer Jefferies or Ruth Johnson, (301)713-2289.

SUPPLEMENTARY INFORMATION: The requested modifications have been granted under the authority of the Endangered Species Act of 1973, as amended (ESA; 16 U.S.C. 1531 et seq.) and the provisions of § 222.306 of the regulations governing the taking, importing, and exporting of endangered and threatened fish and wildlife (50 CFR 222-226).

Mr. Brundage is authorized to sample for and collect 2,500 shortnose sturgeon (Acipenser brevirostrum) annually in the Delaware River and Estuary system and in the lower Susquehanna River/Chesapeake Bay Complex. The objectives of the study are to collect data on current distribution, abundance, length structure and movements of shortnose sturgeon. This modification will extend the total authorized takes through August 31, 2004.

Dr. Secor is authorized to determine the ages of shortnose sturgeon caught in the Hudson river by interpreting annulus of pectoral fin spines. The method uses 10 captive shortnose sturgeon from seven age classes (70 total) from US Fish and Wildlife Service Warm Springs Fish Hatchery, Georgia. This modification will extend the total authorized takes through November 30, 2004.

Issuance of these modifications, as required by the ESA was based on a finding that such permits: (1) Were applied for in good faith; (2) will not operate to the disadvantage of the endangered species which is the subject of these permits; and (3) are consistent with the purposes and policies set forth in section 2 of the ESA.

Dated: September 22, 2003.
Stephen L. Leathery,
Chief, Permits, Conservation and Education Division, Office of Protected Resources, National Marine Fisheries Service.

[FR Doc. 03-24735 Filed 9-29-03; 8:45 am]

BILLING CODE 3510-22-S